OFFICE OF THE UNITED STATES TRADE REPRESENTATIVE

WTO Dispute Settlement Proceeding Regarding Sunset Reviews of Anti-Dumping Measures on Oil Country Tubular Goods From Argentina

AGENCY: Office of the United States Trade Representative.

ACTION: Notice; request for comments.

SUMMARY: The Office of the United States Trade Representative (“USTR”) is providing notice that Argentina has requested the establishment of a dispute settlement panel under the Marrakesh Agreement Establishing the World Trade Organization (“WTO Agreement”). That request may be found at http://www.wto.org contained in a document designated as WT/DS268/16. USTR invites written comments from the public concerning the issues raised in this dispute.

DATES: Although USTR will accept any comments received during the course of the dispute, comments should be submitted on or before May 19, 2006, to be assured of timely consideration by USTR.

ADDRESSES: Comments should be submitted (i) electronically, to FR0609@ustr.gov.eop, Attn: “Argentina OCTG” in the subject line, or (ii) by fax, to Sandy McKinzy at 202-395-3640, with a confirmation copy sent electronically to the e-mail address above.

FOR FURTHER INFORMATION CONTACT: Elizabeth V. Baltzan, Associate General Counsel, Office of the United States Trade Representative, 600 17th Street, NW., Washington, DC 20508, (202) 395-3582.

SUPPLEMENTARY INFORMATION: If a dispute settlement panel is established, such panel, which would hold its meetings in Geneva, Switzerland, would be expected to issue a report on its findings and recommendations within 90 days after referral of the matter to it.

Major Issues Raised by Argentina

In its panel request, Argentina alleges that the United States had not fully complied with the recommendations and rulings of the Dispute Settlement Body from the original dispute. Those recommendations and rulings stem from the panel and Appellate Body reports which may be found at http://www.wto.org designated as WT/DS268/R and WT/DS268/AB/R, respectively.

In particular, Argentina contends that the U.S. Department of Commerce erred by developing new factual information and that the reasoning in the redetermination made pursuant to section 129 of the Uruguay Round Agreements Act is not consistent with Articles 11.1, 11.3, and 11.4 of the Antidumping Agreement. Argentina also considers that the redetermination was inconsistent with a number of procedural obligations in the Antidumping Agreement, including Articles 6.1, 6.2, 6.4, 6.5.1, 6.6, 6.8, 6.9, 12.2, and Annex II. Argentina also alleges that USTR was required to direct Commerce to implement the redetermination in order to avoid a breach of Article 13 of the Antidumping Agreement. Argentina further contends that Commerce was required to amend or repeal the statute and that the amended regulation is inconsistent with the obligation to arrive at a reasoned conclusion on the basis of positive evidence, as well as Articles 6.1, 6.2, 6.6, 11.1, and 11.3 of the Antidumping Agreement.

Public Comment: Requirements for Submissions

Interested persons are invited to submit written comments concerning the issues raised in this dispute. Persons submitting comments may either send one copy by fax to Sandy McKinzy at (202) 395-3640, or transmit a copy electronically to FR0609@ustr.gov.eop, with “Argentina OCTG” in the subject line. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly designated as such and the submission must be marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may qualify as such, the submitting person—

(1) Must clearly so designate the information or advice;

(2) Must clearly mark the material as “SUBMITTED IN CONFIDENCE” at the top and bottom of each page of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened or in the event of an appeal from such a panel, the U.S. submissions, the submissions, or non-confidential summaries of submissions, received from other participants in the dispute; the report of the panel and; if applicable, the report of the Appellate Body. An appointment to review the public file (Docket No. WT/DS-268, Sunset Reviews of Anti-dumping Measures on Oil Country Tubular Goods from Argentina) may be made by calling the USTR Reading Room at (202) 395-6186. The USTR Reading Room is open to the public from 9:30 a.m. to noon and 1 p.m. to 4 p.m., Monday through Friday.

Daniel E. Brinza,
Assistant United States Trade Representative for Monitoring and Enforcement.

[FR Doc. E6-3784 Filed 3-15-06; 8:45 am]

BILLING CODE 3190-W6-P